DEPARTMENT OF COMMERCE

National Oceanic and Atmospheric Administration

Agency Information Collection Activities; Submission to the Office of Management and Budget (OMB) for Review and Approval; Comment Request; West Coast Region Vessel Monitoring System Requirement in the Pacific Coast Groundfish Fishery

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 11, 2021, (86 FR 1947), during a 60-day comment period. This notice allows for an additional 30 days for public comments.

Agency: National Oceanic and Atmospheric Administration (NOAA), Commerce.

Title: West Coast Region Vessel Monitoring System Requirement in the Pacific Coast Groundfish Fishery.

OMB Control Number: 0648-0573.

Form Number(s): N/A.

Type of Request: Regular submission (revision of a current information collection).

Number of Respondents: 1,000.

Average Hours per Response: Four hours to install and activate a VMS unit; one hour to maintain a VMS unit, five minutes to complete and fax a check-in report or to complete an exemption report; four minutes for a declaration report.

Total Annual Burden Hours: 2,021.

Needs and Uses: This is a request for a revision and extension of a currently approved information collection. The National Marine Fisheries Service (NMFS) implemented a Vessel Monitoring Program in 2004, consistent with the Magnuson-Stevens Fishery Conservation and Management Act (MSA) and the Pacific Coast Groundfish Fishery Management Plan (FMP). Under this program described at 50 CFR 660.13 and 660.14, all commercial fishing vessels fishing in the exclusive economic zone off the West Coast that take and retain groundfish in federal waters, or transit through federal waters with groundfish on board, are required to have a working vessel monitoring system (VMS). To support the VMS monitoring program, the following information must be submitted to NMFS: (1) VMS installation/activation certification reports, (2) position reports, (3) exemption reports, and (4) declaration reports. The VMS, along with the fishing declaration reporting requirements, allows for monitoring and enforcement of areas closed to fishing by gear type as traditional enforcement methods (such as aerial surveillance, boarding at sea via patrol boats, landing inspections and documentary investigation) are especially difficult to use when the closed areas are large-scale and the lines defining the areas are irregular.

The collection is being revised to remove the position report from the collection with regard to burden. The position reports are automatically transmitted location signals from the VMS unit that do not require any action on the part of the captain or crew.

Affected Public: Business or other for-profit organizations; individuals or households.

Frequency: Installation/Activation/Maintenance once every four years; exemption reports are optional (estimated 2/year for 500 participants); declaration reports are estimated to be sent by each participant 20 times per year.

Respondent's Obligation: Mandatory.

Legal Authority: 50 CFR 660.13 and 660.14.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0573.

Sheleen Dumas,
Department PRA Clearance Officer, Office of the Chief Information Officer, Commerce Department.

[FR Doc. 2021-07750 Filed 4-14-21; 8:45 am]

BILLING CODE 3510-22-P